DEPARTMENT OF TRANSPORTATION

Federal Aviation Administration

14 CFR Part 39

[Docket No. FAA-2013-0793; Directorate Identifier 2012-NM-138-AD]

RIN 2120-AA64

Airworthiness Directives; BAE SYSTEMS (OPERATIONS) LIMITED Airplanes

AGENCY: Federal Aviation Administration (FAA), DOT.

ACTION: Notice of proposed rulemaking (NPRM).

SUMMARY: We propose to adopt a new airworthiness directive (AD) for all BAE SYSTEMS (OPERATIONS) LIMITED Model BAe 146 series airplanes and Model Avro 146-RJ series airplanes. This proposed AD was prompted by reports of excess solder deposited during overhaul on the frangible plug of a fire extinguisher, which prevented the release of the extinguishant. This proposed AD would require a one-time inspection of certain engine and auxiliary power unit (APU) fire extinguishers to determine if the fire extinguishers are affected by excessive solder and corrective actions if necessary. We are proposing this AD to prevent the failure of a fire extinguisher to discharge, which reduces the ability of the fire protection system to extinguish fires in the engine or APU fire zones, possibly resulting in damage to the airplane and injury to the passengers.

DATES: We must receive comments on this proposed AD by November 12, 2013.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

• For BAE SYSTEMS (OPERATIONS) LIMITED service information identified in this proposed AD, contact BAE SYSTEMS (OPERATIONS) LIMITED, Customer Information Department, Prestwick International Airport, Ayrshire, KA9 2RW, Scotland, United Kingdom; telephone +44 1292 675207; fax +44 1292 675704; email RApublications@baesystems.com; Internet http://www.baesystems.com/Businesses/RegionalAircraft/index.htm. For Kidde Graviner service information identified in this proposed AD, contact Kidde Graviner Limited, Methisen Way, Colnbrook, Slough, Berkshire, SL3 0HB, United Kingdom; telephone +44 (0) 1753 683245; fax +44 (0) 1753 685040. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Todd Thompson, Aerospace Engineer, International Branch, ANM-116, Transport Airplane Directorate, FAA, 1601 Lind Avenue SW., Renton, WA 98057-3356; telephone 425-227-1175; fax 425-227-1149.

SUPPLEMENTARY INFORMATION:

Comments Invited

We invite you to send any written relevant data, views, or arguments about this proposed AD. Send your comments to an address listed under the ADDRESSES section. Include “Docket No. FAA-2013-0793; Directorate Identifier 2012-NM-138-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2012-0126R1, September 10, 2012 (referred to after this as the Mandatory Continuing Airworthiness Information, or “the MCAI”), to correct an unsafe condition for the specified products. The MCAI states:

A fire handle on a BAe 146 aeroplane was operated on the ground as a precautionary measure after the throttle cable on the affected engine failed, due to corrosion. The extinguisher failed to discharge.

Investigation results revealed that excess solder, which had been deposited during overhaul on the frangible plug of the extinguisher, prevented the release of the extinguishant. Prompted by this report, Kidde Graviner, the fire extinguisher manufacturer, identified four further extinguishers of similar design that had the same issue.

This condition, if not detected and corrected, could result in the failure of a fire bottle to discharge, which reduces the ability of the fire protection system to extinguish fires in the engine or Auxiliary Power Unit (APU) fire zones, possibly resulting in damage to the aeroplane and injury to the occupants.

For the reasons described above, EASA issued AD 2012-0126 to require a one-time inspection of the affected Part Number (P/N) 57333 engine and APU fire extinguishers. In addition, this [EASA] AD prohibited installation of a fire extinguisher, unless it has passed the inspection as required by [EASA] AD 2012-0126.

Revision 1 of this [EASA] AD is issued to clarify that new extinguishers P/N 57333 may be fitted with no additional inspection required by this [EASA] AD.

Required actions include installing a new unit or overhauling the unit if any solder is found during the inspection. You may obtain further information by examining the MCAI in the AD docket.

Relevant Service Information

BAE SYSTEMS (OPERATIONS) LIMITED has issued Service Bulletin 26-078, dated September 21, 2011. Kidde Graviner Limited has issued Service Bulletin 26-080, Revision 1, dated July 27, 2011. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This Proposed AD and the MCAI or Service Information

Although the MCAI does not specify a corrective action if any solder is found, this proposed AD would require an overhaul of affected fire extinguishers or installation of new fire extinguishers, as specified in Kidde Graviner Service Bulletin 26-080, Revision 1, dated July 27, 2011.

Costs of Compliance

Based on the service information, we estimate that this proposed AD would affect about 1 product of U.S. registry. We also estimate that it would take about 1 work-hour per product to comply with the basic requirements of this proposed AD. The average labor rate is $85 per work-hour. Based on these figures, we estimate the cost of the proposed AD on U.S. operators to be $85.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

BAE SYSTEMS (OPERATIONS) LIMITED: Docket No. FAA-2013-0793; Directorate Identifier 2012-NM-138-AD.

(a) Comments Due Date

We must receive comments by November 12, 2013.

(b) Affected ADs

None.

(c) Applicability

This AD applies to BAE SYSTEMS (OPERATIONS) LIMITED Model BAe 146-100A, -200A, and -300A airplanes; and Model Avro 146-RJ70A, 146-RJ85A, and 146-RJ100A airplanes; certificated in any category; all models, all serial numbers.

(d) Subject

Air Transport Association (ATA) of America Code 26, Fire protection.

(e) Reason

This AD was prompted by reports of excess solder deposited during overhaul on the frangible plug of the extinguisher, which prevented the release of the extinguishant. We are issuing this AD to prevent the failure of a fire extinguisher to discharge, which reduces the ability of the fire protection system to extinguish fires in the engine or APU fire zones, possibly resulting in damage to the airplane and injury to the passengers.

(f) Compliance

You are responsible for having the actions required by this AD performed within the compliance times specified, unless the actions have already been done.

(g) Inspection and Corrective Action

For airplanes equipped with fire extinguishers manufactured by Kidde Graviner Limited having part number (P/N) 57333 (all dash numbers): Within 12 months after the effective date of this AD, do an x-ray inspection to determine if there is solder between the operating head and container of the fire extinguishers in the engine and auxiliary power unit, in accordance with the Accomplishment Instructions of BAE SYSTEMS (OPERATIONS) LIMITED Service Bulletin 26-078, dated September 21, 2011; or Kidde Graviner Service Bulletin 26-080, Revision 1, dated July 27, 2011; as applicable.

(1) If any solder is found, before further flight, do the action specified in paragraph (g)(1)(i) or (g)(1)(ii) of this AD, in accordance with the Accomplishment Instructions of Kidde Graviner Service Bulletin 26-080, Revision 1, dated July 27, 2011.

(i) Overhaul the fire extinguisher and install. An overhaul includes the replacement of the operating head. Replacement of the pressure relief plug assembly only is not considered an overhaul.

(ii) Install a new fire extinguisher.

(2) If no solder is found, no further action is required by this paragraph.

(h) Parts Installation Limitation

As of the effective date of this AD, no person may install a Kidde Graviner Limited fire extinguisher having P/N 57333 (all dash numbers), on any airplane, unless the fire extinguisher is new, or it has been determined that there is no solder between the operating head and container of the fire extinguishers as required by paragraph (g) of this AD, or has been overhauled in accordance with the Accomplishment Instructions of Kidde Graviner Service Bulletin 26-080, Revision 1, dated July 27, 2011.

(i) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Todd Thompson, Aerospace Engineer, International Branch, ANM-116, Transport Airplane Directorate, FAA, 1601 Lind Avenue SW., Renton, WA 98057-3356; telephone 425-227-1175; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(j) Related Information

(1) Refer to Mandatory Continuing Airworthiness Information (MCAI) European Aviation Safety Agency (EASA) Airworthiness Directive 2012-0126R1, dated September 10, 2012, for related information, which can be found in the AD docket on the Internet at http://www.regulations.gov.

(2) For BAE SYSTEMS (OPERATIONS) LIMITED service information identified in this AD, contact BAE SYSTEMS (OPERATIONS) LIMITED, Customer Information Department, Prestwick International Airport, Ayrshire, KA9 2RW, Scotland, United Kingdom; telephone +44 1292 675207; fax +44 1292 675704; email RApublications@baesystems.com; Internet http://www.baesystems.com/Businesses/RegionalAircraft/index.htm. For Kidde Graviner service information identified in this AD, contact Kidde Graviner Limited, Methisen Way, Colnbrook, Slough, Berkshire, SL3 0HB, United Kingdom; telephone +44 (0) 1753 683245; fax +44 (0) 1753 685040. You may review copies of the referenced service information at the FAA, Transport Airplane Directorate, 1601 Lind Avenue SW., Renton, WA. For information on the availability of this material at the FAA, call 425-227-1221.

Issued in Renton, Washington, on September 13, 2013.
Jeffrey E. Duven,
Acting Manager, Transport Airplane Directorate, Aircraft Certification Service.

[FR Doc. 2013-23276 Filed 9-24-13; 8:45 am]

BILLING CODE 4910-13-P